DEPARTMENT OF TRANSPORTATION

Federal Aviation Administration

Notice of Intent To Rule on Application No. 04-04-C-00-SUX To Impose and Use the Revenue From a Passenger Facility Charge (PFC) at Sioux Gateway Airport, Sioux City, IA

AGENCY: Federal Aviation Administration (FAA), DOT.

ACTION: Notice of Intent to Rule on Application.

SUMMARY: The FAA proposes to rule and invites public comment on the application to impose and use the revenue from a PFC at Sioux Gateway Airport under the provisions of the Aviation Safety and Capacity Expansion Act of 1990 (Title IX of the Omnibus Budget Reconciliation Act of 1990) (Pub. L. 101-508) and part 158 of the Federal Aviation Regulations (14 CFR part 158).

DATES: Comments must be received on or before August 26, 2004.

ADDRESSES: Comments on this application may be mailed or delivered in triplicate to the FAA at the following address: Federal Aviation Administration, Central Region, Airports Division, 901 Locus, Kansas City, MO 64106.

In addition, one copy of any comments submitted to the FAA must be mailed delivered to Mr. Glenn S. Januska, Airport Director, Sioux Gateway Airport, at the following address: Sioux Gateway Airport/Col. Bud Day Field, 2403 Aviation Boulevard, Sioux City, Iowa 51111.

Air carriers and foreign air carriers may submit copies of written comments previously provided to the Sioux Gateway Airport, under § 158.23 of part 158.

FOR FURTHER INFORMATION CONTACT: Lorna Sandridge, PFC Program Manager, FAA, Central Region, 901 Locust, Kansas City, MO 64106 (816) 329-2641. The application may be reviewed in person at this same location.

SUPPLEMENTARY INFORMATION: The FAA proposes to rule and invites public comment on the application to impose and use the revenue from a PFC at the Sioux Gateway Airport under the provisions of the Aviation Safety and Capacity Expansion Act of 1990 (Title IX of the Omnibus Budget Reconciliation Act of 1990) (Pub. L. 101-508) and part 158 of the Federal Aviation Regulations (14 CFR part 158).

On July 19, 2004, the FAA determined that the application to impose and use the revenue from a PFC submitted by the Sioux Gateway Airport, Sioux City Iowa, was substantially complete within the requirements of section 158.25 of Part 158. The FAA will approve or disapprove the application, in whole or in part, no later than November 12, 2004.

The following is a brief overview of the application.

Level of the proposed PFC: $4.50.

Proposed charge effective date: November, 2004.

Proposed charge expiration date: May, 2006.

Total estimated PFC revenue: $258,095.

Brief description of proposed project(s): Rehabilitate Taxiway Bravo; Reconstruct Taxiway Charlie, the air carrier ramp, Taxiway Alpha (south), and Taxiway Echo; update the airport master plan, and replace a snow plow.

Any person may inspect the application in person at the FAA office listed above under FOR FURTHER INFORMATION CONTACT.

In addition, any person may, upon request, inspect the application, notice and other documents germane to the application in person at the Sioux Gateway Airport.

Issued in Kansas City, Missouri on July 19, 2004.
Michael J. Faltermeier,
Acting Manager, Airports Division, Central Region.

[FR Doc. 04-17021 Filed 7-26-04; 8:45 am]

BILLING CODE 4910-13-M